DEPARTMENT OF THE INTERIOR

Bureau of Land Management

[LLAZG02000.L71220000.EU0000.LLVTFA1158500; AZA-281317-01]

Notice of Realty Action: Direct Sale of Public Lands in Pima County, AZ

AGENCY: Bureau of Land Management, Interior.

ACTION: Notice of Realty Action.

SUMMARY: The Bureau of Land Management (BLM), Tucson Field Office (TFO), proposes to sell a parcel of public land consisting of approximately 5.96 acres in Pima County, Arizona. The parcel is being proposed for noncompetitive direct sale to the Three Points Fire District under the provisions of the Federal Land Policy and Management Act of 1976, as amended (FLPMA), and the BLM sales and mineral conveyance regulations for the appraised fair market value (FMV) of $83,440.

DATES: Comments regarding the proposed direct sale must be received by the BLM within 45 days of the date this notice is published in the Federal Register.

ADDRESSES: Written comments concerning the proposed sale should be sent to Brian B. Bellew, Field Manager, BLM Tucson Field Office, 3201 East Universal Way, Tucson, AZ 85756.

FOR FURTHER INFORMATION CONTACT: Linda Dunlavey, Realty Specialist, at the above address, or phone 520-258-7260. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described public land is being proposed for direct sale to the Three Points Fire District in accordance with Sections 203(a)(1) and 209(b)(1)(1) of FLPMA, at not less than the appraised FMV.

Gila & Salt River Meridian

Township 16 South, Range 10 East,

Sec. 4, Lot 17.

The area described contains approximately 5.96 acres in Pima County, Arizona. Regulations contained in 43 CFR 2710.0-3(a) and 43 CFR 2711.3-3(a)(2) make allowances for land sales, and also for sales whereby a competitive sale is not appropriate and the public interest would be best served by a direct sale. The public land was identified as suitable for disposal in the BLM Phoenix Resource Management Plan and Record of Decision approved September 29, 1989. It is not needed for any other Federal purpose, and is difficult and uneconomic to manage. Disposal would alleviate the continued administration of existing land use authorizations. This is an important public project for the community of Three Points as it will provide a permanent solution for fire protection services. Speculative bidding would jeopardize the timely completion and economic viability of the project. A competitive sale is therefore not appropriate and the public interest would best be served by a direct sale. No significant biological and cultural resource values have been identified. There are no impacts to resource values that are expected from this action. The BLM prepared a mineral potential report dated February 23, 2012, and concluded that the lands identified for sale have no known mineral value. The BLM proposes that conveyance of the Federal mineral interests would occur simultaneously with the sale of the land. The project is not expected to affect the Tohono O'Odham Indian Reservation and the San Xavier Indian Reservation, which are located within 10 miles of the sale property. Conveyance of the identified public land will be subject to valid existing rights and encumbrances of record, including, but not limited to, rights-of-ways for roads and public utilities. On July 5, 2013 the above-described land will be segregated from all forms of appropriation under the public land laws, including the mining laws, except for the sale and mineral disposal provisions of FLPMA. Upon publication of this Notice of Realty Action and until completion of the sale, the BLM will no longer accept land use applications affecting the identified public land, except applications for the amendment of previously filed right-of-way applications or existing authorizations to increase the term of the grants in accordance with 43 CFR 2807.15 and 2886.15. The segregation will terminate upon issuance of a patent, publication in the Federal Register of a termination of the segregation, or on July 6, 2015, unless extended by the BLM Arizona State Director in accordance with 43 CFR 2711.1-2(d) prior to the termination date. The land will not be sold until at least 60 days after the date of publication of this notice in the Federal Register at the appraised FMV of $83,400. The patent, if issued, will be subject to the following terms, conditions, and reservations:

1. A reservation of a right-of-way to the United States for ditches and canals constructed by authority of the United States under the Act of August 30, 1890 (43 U.S.C. 945);

2. A condition that the conveyance be subject to all valid existing rights documented on the official public land records at the time of patent issuance, including:

a. Right-of-way AZA-33726 to Trico Electric for a 15-feet-wide buried power line;

b. Right-of-way AZA-23954 to Pima County for a 50-feet-wide access road;

c. Right-of-way AZA-35609 to Thim Water Company for a 15-feet-wide water line; and

d. Right-of-way AZA-17733 to Century Link for a 10-feet-wide fiber optic line.

3. A notice and indemnification statement under the Comprehensive Environmental Response, Compensation, and Liability Act (42 U.S.C. 9620(W)), indemnifying and holding the United States harmless from any release of hazardous materials that may have occurred and any claims arising out of the patentee's use, occupancy, or operations on the patented land;

4. Additional terms and conditions that the authorized officer deems appropriate. Detailed information concerning the proposed land sale, including the appraisal, planning, and environmental documents and a mineral report, are available for review at the address above.

Public comments regarding the proposed sale may be submitted in writing to the BLM Tucson Field Manager at the address above. Comments, including names and street addresses of respondents, will be available for public review at the BLM Tucson Field Office during regular business hours. Before including your address, phone number, email address, or other personal identifying information in your comment, be advised that your entire comment, including your personal identifying information, may be made publicly available at any time. While you may ask us in your comment to withhold from public review your personal identifying information, we cannot guarantee that we will be able to do so. Any adverse comments regarding the proposed sale will be reviewed by the BLM Tucson Field Manager or other authorized official of the Department of the Interior, who may sustain, vacate, or modify this realty action in whole or in part. In the absence of timely filed objections (within 45 days of publication of this notice), this realty action will become the final determination of the Department of the Interior.

Authority: 43 CFR 2711.1-2(a) and (c).

Brian B. Bellew,
BLM Tucson Field Manager.

[FR Doc. 2013-16132 Filed 7-3-13; 8:45 am]

BILLING CODE 4310-32-P